DEPARTMENT OF COMMERCE

Foreign-Trade Zones Board

[B-32-2021]

Foreign-Trade Zone (FTZ) 38—Charleston, South Carolina; Notification of Proposed Production Activity; BMW Manufacturing Company, LLC (Passenger Motor Vehicles); Spartanburg, South Carolina

BMW Manufacturing Company, LLC (BMW MC) submitted a notification of proposed production activity to the FTZ Board for its facility in Spartanburg, South Carolina. The notification conforming to the requirements of the regulations of the FTZ Board (15 CFR 400.22) was received on April 21, 2021.

BMW MC already has authority to produce gasoline and diesel-powered motor vehicles, gasoline-powered hybrid plug-in electric motor vehicles, motor vehicle bodies, stamped body parts, and lithium ion batteries within Subzone 38A. The current request would add diesel-powered hybrid plug-in electric motor vehicles to the scope of authority. Pursuant to 15 CFR 400.14(b), additional FTZ authority would be limited to the specific finished product described in the submitted notification (as described below) and subsequently authorized by the FTZ Board.

Production under FTZ procedures could exempt BMW MC from customs duty payments on the foreign-status materials/components used in export production. On its domestic sales, for the foreign-status materials/components in the existing scope of authority, BMW MC would be able to choose the duty rates during customs entry procedures that apply to diesel powered hybrid plug-in electric motor vehicles (duty rate 2.5%). BMW MC would be able to avoid duty on foreign-status components which become scrap/waste. Customs duties also could possibly be deferred or reduced on foreign-status production equipment.

There are no new materials/components included in this notification.

Public comment is invited from interested parties. Submissions shall be addressed to the Board's Executive Secretary and sent to: ftz@trade.gov. The closing period for their receipt is June 9, 2021.

A copy of the notification will be available for public inspection in the “Reading Room” section of the Board's website, which is accessible via www.trade.gov/ftz.

For further information, contact Christopher Wedderburn at Chris.Wedderburn@trade.gov.

Dated: April 26, 2021.
Andrew McGilvray,
Executive Secretary.

[FR Doc. 2021-09070 Filed 4-29-21; 8:45 am]

BILLING CODE 3510-DS-P